DEPARTMENT OF THE TREASURY

Internal Revenue Service

26 CFR Part 1

[TD 9381]

RIN 1545-BF79

TIPRA Amendments to Section 199; Correction

AGENCY: Internal Revenue Service (IRS), Treasury.

ACTION: Correcting amendment.

SUMMARY: This document contains a correction to final regulations (TD 9381) that were published in the Federal Register on Friday, February 15, 2008 (73 FR 8798) concerning the amendments made by the Tax Increase Prevention and Reconciliation Act of 2005 to section 199 of the Internal Revenue Code. These final regulations also contain a rule concerning the use of losses incurred by members of an expanded affiliated group and affect taxpayers engaged in certain domestic production activities.

DATES: The correction is effective March 28, 2008.

FOR FURTHER INFORMATION CONTACT: Concerning §§ 1.199-2(e)(2) and 1.199-8(i)(5), Paul Handleman or David McDonnell, (202) 622-3040; concerning §§ 1.199-3(i)(7) and (8), and 1.199-5, William Kostak, (202) 622-3060; and concerning §§ 1.199-7(b)(4) and 1.199-8(i)(6), Ken Cohen, (202) 622-7790 (not toll-free numbers).

SUPPLEMENTARY INFORMATION:

Background

The final regulations (TD 9381) that are the subject of the correction are under section 199 of the Internal Revenue Code.

Need for Correction

As published, final regulations (TD 9381) contain an error that may prove to be misleading and is in need of clarification.

List of Subjects in 26 CFR Part 1

Income taxes, Reporting and recordkeeping requirements.

Correction of Publication

Accordingly, 26 CFR part 1 is corrected by making the following amendment:

PART 1—INCOME TAXES

Paragraph 1. The authority citation for part 1 continues to read, in part, as follows:

Authority: 26 U.S.C. 7805 * * *

Par. 2. Section 1.199-8 is amended by revising the last sentence of paragraph (i)(5) to read as follows:

§ 1.199-8 Other rules.

* * * * *

(i) * * *

(5) * * * A taxpayer may apply §§ 1.199-2(e)(2), 1.199-3(i)(7) and (8), and 1.199-5 to taxable years beginning after May 17, 2006, and before October 19, 2006, regardless of whether the taxpayer otherwise relied upon Notice 2005-14 (2005-1 CB 498) (see § 601.601(d)(2)(ii)(b) of this chapter), the provisions of REG-105847-05 (2005-2 CB 987), or §§ 1.199-1 through 1.199-8.

* * * * *

LaNita Van Dyke,
Chief, Publications and Regulations Branch, Legal Processing Division, Associate Chief Counsel (Procedure and Administration).

[FR Doc. E8-6309 Filed 3-27-08; 8:45 am]

BILLING CODE 4830-01-P